DEPARTMENT OF TRANSPORTATION

Federal Aviation Administration

Agency Information Collection Activity Under OMB Review

AGENCY: Federal Aviation Administration.

ACTION: Notice.

SUMMARY: In compliance with the Paperwork Reduction Act of 1995 (44 U.S.C. 3501 et seq.), this notice with the Information Collection Request (ICR) abstracted below has been forwarded to the Office of Management and Budget (OMB) for extension of the currently approved collection. The ICR describes the nature of the information collection and the expected burden. The Federal Register Notice with a 60-day comment period soliciting comments on the following collection of information was published on August 21, 2001, pages 43950-43951.

DATES: Comments must be submitted on or before December 10, 2001. A comment to OMB is most effective if OMB receives it within 30 days of publication.

FOR FURTHER INFORMATION CONTACT: Judy Street on (202) 267-9895.

SUPPLEMENTARY INFORMATION:

Federal Aviation Administration (FAA)

Title: Criteria for Internet Communications of Aviation Weather, NOTAM, and Aeronautical Data.

Type of Request: New collection.

OMB Control Number: None.

Form(s): None.

Affected Public: An estimated 10 interested persons or organizations desiring to become Qualified Internet Communications Providers(QICP).

Abstract: The Department of Transportation, in accordance with 49 CFR 1.47, delegated responsibility for aviation safety oversight to the FAA. The FAA has proposed the development of an advisory circular (AC) that establishes criteria for Qualified Internet Communications Providers (QICP), who provide access to aviation weather, Notice to Airmen (NOTAM) and aeronautical data via the Public Internet. The AC describes procedures for a provider to become and remain an FAA approved QICP.

Estimated Annual Burden Hours: 5,680 hours.

ADDRESS: Send comments to the Office of Information and Regulatory, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to minimize the burden of the collection of information on respondents, including the use of automated collection techniques or other forms of information technology.

Issued in Washington, DC on November 5, 2001.
Steve Hopkins,
Manager, Standards and Information Division, APF-100.

[FR Doc. 01-28119 Filed 11-08-01; 8:45 am]

BILLING CODE 4910-13-M